POSTAL SERVICE

International Product Change—Royal Mail Group Inbound Air Parcel Post Agreement

AGENCY: Postal Service™.

ACTION: Notice.

SUMMARY: The Postal Service gives notice of filing a request with the Postal Regulatory Commission to add the Royal Mail Group Inbound Air Parcel Post Agreement to the Competitive Products List pursuant to 39 U.S.C. 3642.

DATES: May 5, 2009.

FOR FURTHER INFORMATION CONTACT: Margaret M. Falwell, 703-292-3576.

SUPPLEMENTARY INFORMATION: The United States Postal Service® hereby gives notice that it has filed with the Postal Regulatory Commission a Request of United States Postal Service to Add Royal Mail Inbound Air Parcel Post Agreement to the Competitive Product List, and Notice of Filing (Under Seal) Contract and Enabling Governor's Decision. Documents are available at http://www.prc.gov, Docket Nos. MC2009-24 and CP2009-28.

Neva R. Watson,
Attorney, Legislative.

[FR Doc. E9-10355 Filed 5-4-09; 8:45 am]

BILLING CODE 7710-12- P